DEPARTMENT OF THE TREASURY

Submission for OMB Review; Comment Request

July 10, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before August 21, 2000 to be assured of consideration.

Internal Revenue Service (IRS)

OMB Number: 1545-0996.

Regulation Project Number: EE-113-82.

Type of Review: Extension.

Title: Required Distributions From Qualified Plans and Individual Retirement Plans.

Description: The regulations provide rules regarding the minimum distribution requirements applicable to section 403(b) contracts and accounts. Such minimum distribution rules do not apply to benefits accrued before January 1, 1987.

Respondents: Not-for-profit institutions, State, Local or Tribal Government.

Estimated Number of Respondents: 8,400.

Estimated Burden Hours Per Respondent: 1 hour.

Frequency of Response: On occasion.

Estimated Total Reporting Burden: 1 hour.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Lois K. Holland,
Departmental Reports, Management Officer.

[FR Doc. 00-18318 Filed 7-19-00; 8:45 am]

BILLING CODE 4830-01-P